DEPARTMENT OF ENERGY

Federal Energy Regulatory Commission

Notice of Demonstration of Efiling Feature To Facilitate Electronic Service

February 3, 2005.

On Wednesday, February 9, 2005, at 1 p.m., in the Commission Meeting Room, the Commission's Staff will demonstrate a new feature of the Commission's eFiling system that will facilitate the electronic service initiative to be considered by the Commission in its February 9, 2005 open meeting. The new feature (eFiling version 6.0) will allow filers to enter all applicable party and contact names for a particular filing.

This demonstration will not be broadcast by Capitol Connection. It will last about 15 minutes and Commisssion staff be available for questions.

Magalie R. Salas,
Secretary.

[FR Doc. E5-545 Filed 2-9-05; 8:45 am]

BILLING CODE 6717-01-P